DEPARTMENT OF LABOR

Employment and Training Administration

[TA-W-65,390]

Janesville Acoustics; Norwalk, OH; Notice of Termination of Investigation

Pursuant to Section 221 of the Trade Act of 1974, as amended, an investigation was initiated on February 26, 2009 in response to a petition filed by Chicago Midwest Regional Joint Board on behalf of the workers of Janesville Acoustics, Norwalk, Ohio.

The petitioning group of workers is covered by an earlier petition (TA-W-65,077) filed on January 27, 2009 that is the subject of an ongoing investigation for which a determination has not yet been issued. Further investigation in this case would duplicate efforts and serve no purpose; therefore the investigation under this petition has been terminated.

Signed at Washington, DC, this 12th day of March 2009.
Linda G. Poole,
Certifying Officer, Division of Trade Adjustment Assistance.

[FR Doc. E9-6306 Filed 3-23-09; 8:45 am]

BILLING CODE 4510-FN-P